NATIONAL SCIENCE FOUNDATION

Agency Information Collection Activities: Comment Request

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by June 8, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Additional Reporting Requirements for Mathematical Sciences Research Institutes.

OMB Number: 3145-NEW.

Expiration Date of Approval: Not applicable.

Type of Request: Intent to seek approval to establish an information collection.

Proposed Project: Use of the Information: Mathematical Sciences Research Institutes are national resources that aim to advance research in the mathematical sciences through programs supporting discovery and dissemination of knowledge in mathematics and statistics and enhancing connections to related fields in which the mathematical sciences can play important roles. Institute activities help focus the attention of some of the best mathematical minds on problems of particular importance and timeliness. Institutes are also community resources that involve a broad segment of U.S.-based mathematical sciences researchers in their activities. The goals of the Mathematical Sciences Research Institutes program include advancing research in the mathematical sciences, increasing the impact of the mathematical sciences in other disciplines, and expanding the talent base engaged in mathematical research in the United States. The data collection on participants information at each of the currently supported institutes for this request includes: participant identifications, contact information, affiliations, demographic information, institute programs participated, durations, and NSF support received.

Respondents: Respondents are PIs of current Mathematical Sciences Research Institutes program awards.

Estimated Number of Annual Respondents: 6-7 individuals.

Burden on the Public: 175 hours.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: April 3, 2020.
Suzanne H. Plimpton,
Reports Clearance Officer, National Science Foundation.

[FR Doc. 2020-07456 Filed 4-8-20; 8:45 am]

BILLING CODE 7555-01-P